DEPARTMENT OF AGRICULTURE

Animal and Plant Health Inspection Service

[Docket No. APHIS-2021-0025]

Notice of Request for Reinstatement of an Information Collection; National Animal Health Monitoring System; Bison 2022 Study

AGENCY: Animal and Plant Health Inspection Service, Agriculture (USDA).

ACTION: Reinstatement of an information collection; comment request.

SUMMARY: In accordance with the Paperwork Reduction Act of 1995, this notice announces the Animal and Plant Health Inspection Service's intention to request the reinstatement of an information collection to conduct the National Animal Health Monitoring System Bison 2022 Study.

DATES: We will consider all comments that we receive on or before August 13, 2021.

ADDRESSES: You may submit comments by either of the following methods:

• Federal eRulemaking Portal: Go to www.regulations.gov. Enter APHIS-2021-0025 in the Search field. Select the Documents tab, then select the Comment button in the list of documents.

• Postal Mail/Commercial Delivery: Send your comment to Docket No. APHIS-2021-0025, Regulatory Analysis and Development, PPD, APHIS, Station 3A-03.8, 4700 River Road, Unit 118, Riverdale, MD 20737-1238.

Supporting documents and any comments we receive on this docket may be viewed at www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the NAHMS Bison 2022 Study, contact Dr. Lynn Elliston-Gittings, Management Analyst, Program Coordination and Implementation, Center for Epidemiology and Animal Health, VS, 2150 Centre Avenue, Building B, Fort Collins, CO 80524; (970) 305-6636. For information on the information collection process, contact Mr. Joseph Moxey, APHIS Paperwork Reduction Act Coordinator, at (301) 851-2483; joseph.moxey@usda.gov.

SUPPLEMENTARY INFORMATION: Title: National Animal Health Monitoring System; Bison 2022 Study.

OMB Control Number: 0579-0420.

Type of Request: Reinstatement of an information collection.

Abstract: Under the Animal Health Protection Act (7 U.S.C. 8301 et seq.), the Secretary of Agriculture is authorized to protect the health of livestock, poultry, and aquaculture populations in the United States by preventing the introduction and interstate spread of serious diseases and pests of livestock and for eradicating such diseases within the United States when feasible. This authority has been delegated to the Animal and Plant Health Inspection Service (APHIS).

In connection with this mission, APHIS operates the National Animal Health Monitoring System (NAHMS), which collects on a national basis statistically valid and scientifically sound data on the prevalence and economic importance of livestock poultry and aquaculture disease risk factors. NAHMS' studies have evolved into a collaborative government and industry initiative to help determine the most effective means of preventing and controlling diseases of livestock. APHIS is the only Federal agency responsible for collecting data on livestock. Participation in any NAHMS study is voluntary and all data are confidential.

APHIS plans to conduct a Bison 2022 Study to obtain information about the livestock population and to provide a foundation for possible future studies. The objectives of the study are to:

• Describe status and changes in the U.S. bison industry from 2014 to 2022, including operation characteristics (such as inventory, size, and type), production purposes, and marketing practices.

• Describe current U.S. bison industry production practices and challenges, including animal management and welfare, nutrition and range management, and environmental stewardship.

• Describe health management and biosecurity practices on U.S. bison operations.

• Describe producer-reported occurrence of select health problems, associated management practices or actions, and causes of bison mortality.

The study will consist of two collection phases. The first phase consists of a producer informed consent form and a self-administered paper or electronic survey administered by USDA's National Agricultural Statistics Service (NASS). The second, biologics phase, includes a microbe collection record, two fecal parasite collection records, and a forage collection record, each documenting biologic samples collected and submitted by producers who choose to participate in the second phase to receive biologic results from their herds. All producers in the study will receive a study evaluation upon conclusion of the study. The information collected will be used by APHIS to describe current bison health and management practices, help policymakers and industry make informed decisions, help researchers and private enterprise identify and focus on vital issues related to bison health and productivity, facilitate the education of future producers and veterinarians, and conduct economic analyses of the health and production of the U.S. bison industry.

On March 20, 2012, NAHMS was recognized by the Office of Management and Budget (OMB) as a statistical unit under the Confidential Information Protection and Statistical Efficiency Act of 2002 (CIPSEA). All information acquired under the Bison 2022 Study's NASS phase will be used for statistical purposes only and will be treated as confidential in accordance with CIPSEA guidelines. Only NAHMS staff and designated agents will be permitted access to individual-level data. The biologics phase of the study will not be collected under CIPSEA, rather will be protected as Confidential Business Information as defined in 19 CFR 201.6. Respondent information will be protected by ensuring that no identifying information is linked to the data.

We are asking OMB to approve our use of these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.25 hours per response.

Respondents: Bison owners and producers.

Estimated annual number of respondents: 2,000.

Estimated annual number of responses per respondent: 1.5.

Estimated annual number of responses: 2,994.

Estimated total annual burden on respondents: 3,741 hours. (Due to averaging, the total annual burden hours may not equal the product of the annual number of responses multiplied by the reporting burden per response.)

All responses to this notice will be summarized and included in the request for OMB approval. All comments will also become a matter of public record.

Done in Washington, DC, this 9th day of June 2021.
Mark Davidson,
Acting Administrator, Animal and Plant Health Inspection Service.

[FR Doc. 2021-12420 Filed 6-11-21; 8:45 am]

BILLING CODE 3410-34-P